DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief Executive Officer of community | Effective date of modification | Community number
Illinois: Adams (Case No. 03-05-5163P) (FEMA Docket No. P7632) | Unincorporated Areas | December 3, 2003, December 10, 2003, Quincy Herald-Whig | Mr. Mike McLaughlin, Adams County Board Chairman, Adams County Courthouse, 507 Vermont Street, Quincy, IL 62301 | March 10, 2004 | 170001
Illinois: Calhoun (Case No. 03-05-5163P) (FEMA Docket No. P7632) | Unincorporated Areas | December 3, 2003, December 10, 2003, Calhoun News-Herald | Mr. Vince Tepen, Calhoun County, Board of County Commissioners, P.O. Box 187, Hardin, IL 62047 | March 10, 2004 | 170018
Illinois: Madison (Case No. 03-05-5172P) (FEMA Docket No. P7632) | Village of Hartford | November 19, 2003, November 26, 2003, The Telegraph | The Hon. William Moore, Jr., Mayor, Village of Hartford, 140 West Hawthorne, Hartford, IL 62048 | December 8, 2003 | 170444
Illinois: Pike (Case No. 03-05-5163P) (FEMA Docket No. P7632) | Village of Hull | December 2, 2003, December 9, 2003, The Paper | The Honorable Kirk Rued, Mayor, Village of Hull, Hull Village Hall, P.O. Box 70, Hull, IL 62343 | March 10, 2004 | 170553
Illinois: Madison (Case No. 03-05-5172P) (FEMA Docket No. P7632) | Unincorporated Areas | November 19, 2003, November 26, 2003, The Telegraph | The Honorable Alan J. Dunstan, Madison County Board Chairman, Madison County Admin. Building, 157 N. Main Street, Suite 165, Edwardsville, IL 62025-1963 | December 8, 2003 | 170436
Illinois: Pike (Case No. 03-05-5163P) (FEMA Docket No. P7632) | Unincorporated Areas | December 3, 2003, December 10, 2003, The Pike Press | Mr. Scott Syrcle, Pike County Board Chairman, 100 East Washington Street, Pittsfield, IL 62363 | March 10, 2004 | 170551
Illinois: Pike (Case No. 03-05-5163P) (FEMA Docket No. P7632) | Village of Pleasant Hill | December 3, 2003, December 10, 2003, The Pike Press | Mr. William R. Graham, President, Village of Pleasant Hill, Village Hall, 104 West Quincy Street, Pleasant Hill, IL 62366 | March 10, 2004 | 170558
Illinois: Madison (Case No. 03-05-5172P) (FEMA Docket No. P7632) | Village of Roxana | November 19, 2003, November 26, 2003, The Telegraph | The Honorable Fred Hubbard, President, Village of Roxana, 400 South Central Avenue, Roxana, IL 62084 | December 8, 2003 | 170448
Illinois: Kendall (Case No. 03-05-0545P) (FEMA Docket No. P7630) | Village of Oswego | October 23, 2003, October 30, 2003, The Ledger-Sentinel | Mr. Craig Weber, President, Village of Oswego, 113 Main Street, Oswego, IL 60543 | October 6, 2003 | 170345
Indiana: Lake (Case No. 03-05-5175P) (FEMA Docket No. P7630) | Town of Griffith | October 23, 2003, October 30, 2003, The Times | The Honorable Stanley Dobosz, Town Council President, Town of Griffith, 111 North Broad Street, Griffith, IN 46319 | January 29, 2004 | 185175
Indiana: Lake (Case No. 03-05-5174P) (FEMA Docket No. P7630) | Town of Highland | October 23, 2003, October 30, 2003, The Times | The Honorable Mark Herak, Town Council President, Town of Highland, 3333 Ridge Road, Highland, IN 46322 | January 29, 2004 | 185176
Indiana: Lake (Case No. 03-05-3366P) (FEMA Docket No. P7630) | Unincorporated Areas | October 23, 2003, October 30, 2003, The Times | The Honorable Gerry J. Scheub, President, Lake County, Board of Commissioners, 2293 North Main Street, 3rd Floor, Building A, Crown Point, IN 46307 | January 29, 2004 | 180126
Iowa: Johnson (Case No. 03-07-105P) (FEMA Docket No. P7632) | City of Coralville | November 7, 2003, November 14, 2003, Iowa City Press-Citizen | The Honorable Jim Fausett, Mayor, City of Coralville, 1512 7th Street, Coralville, IA 52241 | February 13, 2004 | 190169
Kansas: Douglas (Case No. 03-07-1276P) (FEMA Docket No. P7632) | City of Lawrence | November 7, 2003, November 14, 2003, Lawrence Journal World | The Hon. David M. Dunfield, Mayor, City of Lawrence, P.O. Box 708, 6 East 6th Street, Lawrence, KS 66044 | February 13, 2004 | 200090
Louisiana: East Baton Rouge Parish (Case No. 03-06-827P) (FEMA Docket No. P7630) | City of Zachary | October 16, 2003, October 23, 2003, The Zachary Plainsman | The Honorable Charlene Smith, Mayor, City of Zachary, 4700 Main Street, Zachary, LA 70791 | September 30, 2003 | 220061
Michigan: Macomb (Case No. 03-05-3367P) (FEMA Docket No. P7630) | City of Fraser | October 31, 2003, November 7, 2003, The Macomb Daily | The Hon. Edmund T. Adamczyk, Mayor, City of Fraser, City Hall, 33000 Garfield Road, Fraser, MI 48026 | October 17, 2003 | 260122
Michigan: Oakland (Case No. 03-05-0535P) (FEMA Docket No. P7632) | City of Troy | December 4, 2003, December 11, 2003, The Troy Times | The Honorable Matt Pryor, Mayor, City of Troy, 500 West Big Beaver Road, Troy, MI 48084 | March 11, 2004 | 260180
Minnesota: Carver (Case No. 02-05-0831P) (FEMA Docket No. P7630) | Unincorporated Areas | October 23, 2003, October 30, 2003, The Waconia Patriot | Mr. David Hemze, Acting Administrator, Carver County, Carver County Courthouse, 600 East Fourth Street, Chaska, MN 55318 | January 29, 2004 | 270049
Minnesota: Le Sueur (Case No. 03-05-1835P) (FEMA Docket No. P7632) | City of New Prague | December 4, 2003, December 11, 2003, The New Prague Times | The Honorable Craig Sindelar, Mayor, City of New Prague, 118 Central Avenue, New Prague, MN 56071 | March 11, 2004 | 270249
Minnesota: Sherburne (Case No. 03-05-3980P) (FEMA Docket No. P7632) | Unincorporated Areas | December 19, 2003, December 26, 2003, St. Cloud Times | Mr. Brian Bensen, Sherburne County Administrator, Sherburne County Government Center, 13880 Highway 10, Elk River, MN 55330 | December 3, 2003 | 270435
Missouri: St. Louis (Case No. 03-07-894P) (FEMA Docket No. P7630) | Unincorporated Areas | October 22, 2003, October 29, 2003, St. Louis Post Dispatch | Mr. Buzz Westfall, St. Louis County Executive, 41 South Central Avenue, St. Louis, MO 63105 | January 28, 2004 | 290327
New Mexico: Bernalillo (Case No. 04-06-241P) (FEMA Docket No. P7632) | City of Albuquerque | December 22, 2003, December 29, 2003, Albuquerque Journal | The Honorable Martin Chavez, Mayor, City of Albuquerque, P.O. Box 1293, Albuquerque, NM 87103 | November 20, 2003 | 350002
New Mexico: Bernalillo (Case No. 04-06-245P) (FEMA Docket No. P7632) | City of Albuquerque | December 22, 2003, December 29, 2003, Albuquerque Journal | The Honorable Martin Chavez, Mayor, City of Albuquerque, P.O. Box 1293, Albuquerque, NM 87103 | November 20, 2003 | 350002
New Mexico: Bernalillo (Case No. 04-06-245P) (FEMA Docket No. P7632) | City of Albuquerque | December 22, 2003, December 29, 2003, Albuquerque Journal | The Honorable Martin Chavez, Mayor, City of Albuquerque, P.O. Box 1293, Albuquerque, NM 87103 | November 20, 2003 | 350002
New Mexico: Bernalillo (Case No. 04-06-246P) (FEMA Docket No. P7632) | City of Albuquerque | December 22, 2003, December 29, 2003, Albuquerque Journal | The Honorable Martin Chavez, Mayor, City of Albuquerque, P.O. Box 1293, Albuquerque, NM 87103 | November 20, 2003 | 350002
New Mexico: Bernalillo (Case No. 03-06-1734P) (FEMA Docket No. P7630) | City of Albuquerque | October 23, 2003, October 30, 2003, Albuquerque Journal | The Honorable Martin Chavez, Mayor, City of Albuquerque, P.O. Box 1293, Albuquerque, NM 87103 | October 9, 2003 | 350002
New Mexico: Bernalillo (Case No. 03-06-1742P) (FEMA Docket No. P7632) | City of Albuquerque | November 6, 2003, November 13, 2003, Albuquerque Journal | The Honorable Martin Chavez, Mayor, City of Albuquerque, P.O. Box 1293, Albuquerque, NM 87103 | October 21, 2003 | 350002
New Mexico: Bernalillo (Case No. 03-06-2528P) (FEMA Docket No. P7630) | Unincorporated Areas | September 30, 2003, October 7, 2003, Albuquerque Journal | Mr. Tom Rutherford, Chairman, Bernalillo County, One Civic Plaza NW., Albuquerque, NM 87102 | January 6, 2004 | 350001
New Mexico: Bernalillo (Case No. 03-06-1742P) (FEMA Docket No. P7632) | Unincorporated Areas | November 6, 2003, November 13, 2003, Albuquerque Journal | Mr. Tom Rutherford, Chairman, Bernalillo County, One Civic Plaza, NW., Albuquerque, NM 87102 | October 21, 2003 | 350001
New Mexico: Bernalillo (Case No. 04-06-241P) (FEMA Docket No. P7632) | Unincorporated Areas | December 22, 2003, December 29, 2003, Albuquerque Journal | Mr. Tom Rutherford, Chairman, Bernalillo County, One Civic Plaza, NW., Albuquerque, NM 87102 | November 20, 2003 | 350001
New Mexico: Bernalillo (Case No. 04-06-242P) (FEMA Docket No. P7632) | Unincorporated Areas | December 22, 2003, December 29, 2003, Albuquerque Journal | Mr. Tom Rutherford, Chairman, Bernalillo County, One Civic Plaza, NW., Albuquerque, NM 87102 | November 20, 2003 | 350001
New Mexico: Bernalillo (Case No. 04-06-243P) (FEMA Docket No. P7632) | Unincorporated Areas | December 22, 2003, December 29, 2003, Albuquerque Journal | Mr. Tom Rutherford, Chairman, Bernalillo County, One Civic Plaza, N.W., Albuquerque, NM 87102 | December 4, 2003 | 350001
Ohio: Allen (Case No. 03-05-0444P) (FEMA Docket No. P7632) | Allen County | December 22, 2003, December 29, 2003, The Lima News | Mr. Fred Eldridge, Allen County Administrator, 301 North Main, Lima, OH 45802 | March 29, 2004 | 390758
Ohio: Delaware (Case No. 03-05-2574P) (FEMA Docket No. P7632) | Village of Powell | November 19, 2003, November 26, 2003, Olentangy Valley News | The Honorable Art Schultz, Mayor, Village of Powell, 47 Hall Street, Powell, OH 43065 | February 25, 2004 | 390626
Oklahoma: Oklahoma (Case No. 03-06-691P) (FEMA Docket No. P7632) | Unincorporated Areas | November 18, 2003, November 25, 2003, The Daily Oklahoman | Mr. Stan Inman, Chairman, Oklahoma County Commission, 320 Robert S. Kerr Avenue, Suite 621, Oklahoma City, OK 73102 | February 24, 2004 | 400466
Oklahoma: Rogers (Case No. 03-06-1392P) (FEMA Docket No. P7632) | Unincorporated Areas | August 29, 2003, September 5, 2003, Claremore Daily Progress | Mr. Gerry Payne, Chairman, Board of Commissioners, 219 South Missouri, Claremore, OK 74017 | September 12, 2003 | 405379
Oklahoma: Tulsa (Case No. 03-06-1541P) (FEMA Docket No. P7630) | City of Tulsa | October 17, 2003, October 24, 2003, Tulsa World | The Honorable Bill LaFortune, Mayor, City of Tulsa, City Hall, 200 Civic Center, Tulsa, OK 74103 | October 1, 2003 | 405381
Oklahoma: Tulsa (Case No. 03-06-1945P) (FEMA Docket No. P7630) | City of Tulsa | October 24, 2003, October 31, 2003, Tulsa World | The Honorable Bill LaFortune, Mayor, City of Tulsa, City Hall, 200 Civic Center, Tulsa, OK 74103 | October 9, 2003 | 405381
Texas: Johnson (Case No. 03-06-060P) (FEMA Docket No. P7630) | City of Burleson | October 22, 2003, October 29, 2003, The Burleson Star | The Honorable Byron Black, Mayor, City of Burleson, 141 West Renfro, Burleson, TX 76028 | January 28, 2004 | 485459
Texas: Johnson (Case No. 03-06-1544P) (FEMA Docket No. P7632) | City of Burleson | December 3, 2003, December 10, 2003, The Burleson Star | The Honorable Byron Black, Mayor, City of Burleson, 141 West Renfro, Burleson, TX 76028 | March 10, 2004 | 485459
Texas: Dallas (Case No. 03-06-435P) (FEMA Docket No. P7630) | City of Carrollton | October 24, 2003, October 31, 2003, Northwest Morning News | The Honorable Mark Stokes, Mayor, City of Carrollton, 1945 E. Jackson Road, Carrollton, TX 75006 | October 7, 2003 | 480167
Texas: Dallas (Case No. 03-06-838P) (FEMA Docket No. P7632) | City of Carrollton | November 14, 2003, November 21, 2003, Northwest Morning News | The Honorable Mark Stokes, Mayor, City of Carrollton, 1945 E. Jackson Road, Carrollton, TX 75006 | October 30, 2003 | 480167
Texas: Dallas (Case No. 02-06-2440P) (FEMA Docket No. P7630) | City of Cedar Hill | October 17, 2003, October 24, 2003, Dallas Morning News | The Honorable Robert Franke, Mayor, City of Cedar Hill, P.O. Box 96, Cedar Hill, TX 75106 | January 23, 2004 | 480168
Texas: Tarrant (Case No. 02-06-2311P) (FEMA Docket No. P7630) | City of Fort Worth | October 21, 2003, October 28, 2003, The Star Telegram | The Hon. Michael J. Moncrief, Mayor, City of Fort Worth, 1000 Throckmorton Street, Fort Worth, TX 76102-6311 | October 9, 2003 | 480596
Texas: Tarrant (Case No. 03-06-1376P) (FEMA Docket No. P7630) | City of Fort Worth | October 22, 2003, October 29, 2003, The Star Telegram | The Hon. Michael J. Moncrief, Mayor, City of Fort Worth, 1000 Throckmorton Street, Fort Worth, TX 76102-6311 | October 7, 2003 | 480596
Texas: Denton (Case No. 03-06-1926P) (FEMA Docket No. P7630) | Town of Flower Mound | October 29, 2003, November 5, 2003, Flower Mound Leader | The Honorable Lori DeLuca, Mayor, Town of Flower Mound, 2121 Cross Timbers Road, Flower Mound, TX 75028 | October 15, 2003 | 480777
Texas: Harris (Case No. 03-06-405P) (FEMA Docket No. P7632) | Unincorporated Areas | November 11, 2003, November 18, 2003, The Houston Chronicle | The Hon. Robert A. Eckels, Judge, Harris County, 1001 Preston, Suite 911, Houston, TX 77002 | February 17, 2004 | 480287
Texas: Denton (Case No. 03-06-435P) (FEMA Docket No. P7630) | City of Hebron | October 22, 2003, October 29, 2003, The Carrollton Leader | The Honorable Kelly Clem, Mayor, Town of Hebron, 4216 Charles Street, Carrollton, TX 75010 | October 7, 2003 | 481495
Texas: Hidalgo (Case No. 03-06-1738P) (FEMA Docket No. P7632) | Unincorporated Areas | December 10, 2003, December 17, 2003, Edinburg Daily Review | The Honorable Ramon Garcia, Judge, Hidalgo County, 100 East Cano Street, Edinburg, TX 78539 | March 17, 2004 | 480334
Texas: Harris (Case No. 03-06-405P) (FEMA Docket No. P7632) | City of Houston | November 11, 2003, November 18, 2003, The Houston Chronicle | The Honorable Bill White, Mayor, City of Houston, P.O. Box 1562, Houston, TX 77251 | February 17, 2004 | 480296
Texas: Hays (Case No. 03-06-1735P) (FEMA Docket No. P7632) | City of Kyle | December 10, 2003, December 17, 2003, The Kyle Eagle | The Honorable James Adkins, Mayor, City of Kyle, 300 West Center, Kyle, TX 78640 | November 17, 2003 | 481108
Texas: Hidalgo (Case No. 03-06-1738P) (FEMA Docket No. P7632) | City of La Joya | December 10, 2003, December 17, 2003, Edinburg Daily Review | The Honorable Billy Leo, Mayor, City of La Joya, 100 West Expressway 83, La Joya, TX 78560 | March 17, 2004 | 480341
Texas: Tarrant (Case No. 03-06-444P) (FEMA Docket No. P7630) | City of North Richland Hills | October 22, 2003, October 29, 2003, The Northeast Tarrant, County Morning News | The Hon. T. Oscar Trevino, Jr., Mayor, City of N. Richland Hills, 7301 North East Loop 820, North Richland Hills, TX 76180 | October 7, 2003 | 480607
Texas: Harris (Case No. 03-06-1531P) (FEMA Docket No. P7632) | City of Pasadena | November 11, 2003, November 18, 2003, The Pasadena Citizen | The Honorable John Manlove, Mayor, City of Pasadena, City Hall, 1211 Southmore, Pasadena, TX 77502 | February 17, 2004 | 480307
Texas: Collin (Case No. 03-06-407P) (FEMA Docket No. P7630) | City of Plano | October 29, 2003, November 5, 2003, Plano Star Courier | The Honorable Pat Evans, Mayor, City of Plano, P.O. Box 860358, Plano, TX 75086-0358 | February 4, 2004 | 480140
Texas: Dallas (Case No. 03-06-427P) (FEMA Docket No. P7632) | City of Richardson | December 4, 2004, December 11, 2003, The Richardson Morning News | The Honorable Gary A. Slagel, Mayor, City of Richardson, P.O. Box 830309, Richardson, TX 75083-0309 | November 12, 2003 | 480184
Texas: Bexar (Case No. 03-06-039P) (FEMA Docket No. P7632) | City of San Antonio | December 5, 2003, December 12, 2003 San Antonio Express News | The Honorable Ed Garza, Mayor, City of San Antonio, P.O. Box 839966, San Antonio, TX 78283-3966 | March 12, 2004 | 480045
Texas: Hays (Case No. 02-06-1681P) (FEMA Docket No. P7630) | City of San Marcos | October 17, 2003, October 24, 2003, San Marcos Daily Record | The Hon. Robert Habingreither, Mayor, City of San Marcos, 630 East Hopkins, San Marcos, TX 78666 | September 30, 2003 | 485505

>

(Catalog of Federal Domestic Assistance No. 83.100, “Flood Insurance.”)
Dated: August 10, 2004.
David I. Maurstad,
Acting Director, Mitigation Division, Emergency Preparedness and Response Directorate.

[FR Doc. 04-19009 Filed 8-18-04; 8:45 am]

BILLING CODE 9110-12-P